DEPARTMENT OF THE TREASURY

Office of Foreign Assets Control

Sanctions Actions Pursuant to Executive Order 13581

AGENCY: Office of Foreign Assets Control, Treasury.

ACTION: Notice.

SUMMARY: The U.S. Department of the Treasury's Office of Foreign Assets Control (OFAC) is publishing the name of a person whose property and interests in property have been unblocked pursuant to Executive Order 13581 of July 24, 2011, “Blocking Property of Transnational Criminal Organizations.”

DATES: OFAC's actions described in this notice were effective on June 21, 2017.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The list of Specially Designated Nationals and Blocked Persons (SDN List) and additional information concerning OFAC sanctions programs are available from OFAC's Web site at http://www.treasury.gov/ofac.

Notice of OFAC Actions

On June 21, 2017, OFAC removed from the SDN List the person listed below, whose property and interests in property were blocked pursuant to Executive Order 13581.

Individual

1. DRISCOLL, Mary Ann, Vancouver, British Columbia, Canada; DOB 01 Jun 1950 to 30 Jun 1950; nationality Canada (individual) [TCO] (Linked To: CHEXX INC.; Linked To: INDIAN RIVER (UK) LTD.; Linked To: PACNET GROUP).

Dated: June 21, 2017.
Andrea Gacki
Acting Director, Office of Foreign Assets Control.

Editorial Note: This document was received at the Office of the Federal Register on Friday, October 6, 2017.

[FR Doc. 2017-22097 Filed 10-11-17; 8:45 am]

BILLING CODE 4810-AL-P